DEPARTMENT OF COMMERCE

International Trade Administration

TRADE AND DEVELOPMENT AGENCY

[Docket Number: 230417-0103]

Climate Adaptation Export Competitiveness Request for Information

AGENCY: International Trade Administration, Department of Commerce, and U.S. Trade and Development Agency.

ACTION: Request for public comments; Climate Adaptation Export Competitiveness Request for Information.

SUMMARY: This notice seeks public comments on climate adaptation and resilience-related technologies and services to enhance the U.S. government's understanding of opportunities and challenges for U.S. exporters in these sectors. The comments will be used by the U.S. Department of Commerce's International Trade Administration (ITA) and the U.S. Trade and Development Agency (USTDA) to align U.S. government trade promotion and trade policy activities to those sectors and markets that present the greatest opportunities for exporters of climate adaptation and resilience-related technologies and services, as well as to address relevant trade barriers and promote U.S. industry competitiveness.

DATES: Comments are requested no later than June 30, 2023.

ADDRESSES: You may submit electronic comments, identified by Docket Number: 230417-0103 via the Federal e-Rulemaking Portal. Go to https://www.regulations.gov and enter Docket Number: 230417-0103 in the Search box. Click on the “Comment” icon, complete the required fields, and enter or attach your comments.

If you are unable to comment via regulations.gov, you may contact climate@trade.gov for instructions on submitting your comment.

Instructions: Comments sent by any other method, to any other address or individual, or received after the end of the comment period, may not be considered by ITA or USTDA. Comments received before the deadline are a part of the public record and will generally be posted for public viewing on www.regulations.gov without change.

Commenters should include the name of the person or organization filing the comment. All personal identifying information (for example, name, address) voluntarily submitted by the commenter may be publicly accessible. ITA and USTDA will not accept anonymous comments.

For those seeking to submit confidential business information (CBI) for government use only, please clearly mark such submissions as CBI and submit an accompanying redacted version to be made public.

FOR FURTHER INFORMATION CONTACT:

ITA, Anna Cron, International Trade Administration; 1401 Constitution Ave. NW, Washington, DC 20230; telephone: (202) 843-2376; email: climate@trade.gov. Please direct media inquiries to ITA's Office of Public Affairs (202) 482-3809 or publicaffairs@trade.gov.

USTDA, Eric Haxthausen, U.S. Trade and Development Agency; 1101 Wilson Blvd., Suite 1100, Arlington, VA 22209; telephone: (703) 875-4357; email: climateadaptation@ustda.gov. Please direct media inquiries to Paul Marin in USTDA's Office of Public Affairs at (703) 875-4357.

SUPPLEMENTARY INFORMATION: On January 27, 2021, President Biden issued Executive Order 14008, “Tackling the Climate Crisis at Home and Abroad” (86 FR 7619). E.O. 14008 puts climate considerations at the forefront of U.S. foreign policy and national security. The E.O. also directs agencies that engage in extensive international work to develop strategies and implementation plans for integrating climate considerations into their overseas programming. During the 26th Conference of the Parties to the United Nations Framework Convention on Climate Change (UNFCCC COP26) in November 2021, President Biden announced the launch of the President's Emergency Plan for Adaptation and Resilience (PREPARE), a whole-of-government initiative that serves as the cornerstone of the U.S. government response to addressing the increasing impacts of the global climate crisis to enhance global stability and security.

The increased focus on climate adaptation and resilience is timely as recent analyses have identified the need for trillions of dollars in annual infrastructure investments over the coming years and decades. This infrastructure will need to accommodate new climate conditions, and specific investments will be needed to support communities and businesses in adapting to new climate-related risks. Mindful of these needs and the opportunity to spur U.S. innovation and create well-paying jobs in addressing them, ITA and USTDA, together with their partner agencies across the U.S. government, seek to expand climate adaptation and resilience-related programming to support sustainable infrastructure needs while promoting the export of U.S. technologies and services.

In support of PREPARE and their trade-focused missions, ITA and USTDA are requesting public comments on the export competitiveness of climate adaptation and resilience-related technologies and services, and potential opportunities and challenges in the export of climate adaptation and resilience-related solutions. Both agencies are interested to identify possible actions the Federal government could take to foster U.S. export competitiveness in this area.

ITA

ITA strengthens the competitiveness of U.S. industry, promotes trade and investment, and ensures fair trade through the rigorous enforcement of our trade laws and agreements. ITA works to improve the global business environment and helps U.S. organizations of all sizes to compete at home and abroad. To advance the Administration's climate and trade agenda, ITA focuses on four strategic objectives: (1) Promoting U.S. exports and inward investment; (2) Removing and preventing trade barriers; (3) Enforcing trade laws and agreements; and (4) Supporting U.S. companies competing for foreign projects. Through its more than 100 U.S. field offices nationwide and 80 offices across the globe, ITA offers companies a full range of services to plan, assess, promote, and expand business around the world.

ITA is working to identify key issues influencing the deployment of U.S. climate solutions and to promote U.S. exports to address climate change. The stakeholder input sought through this notice will inform ITA's export promotion, commercial diplomacy, and trade compliance efforts, as well as assist in the development of trade promotion programs aimed to support U.S. exporters of climate adaptation and resilience-related technologies and services.

USTDA

USTDA helps companies create U.S. jobs through the export of U.S. goods and services for priority infrastructure projects in emerging economies. USTDA links U.S. businesses to export opportunities by funding project preparation and partnership building activities that develop sustainable infrastructure and foster economic growth in partner countries. USTDA achieves its mission by funding feasibility studies, technical assistance and pilot projects that integrate U.S. private sector innovation into infrastructure projects at the critical early stages when design choices and technology options are determined. The Agency also connects overseas project sponsors with U.S. partners through its reverse trade missions, industry conferences and expert workshops. USTDA's dual mission of facilitating overseas economic development and U.S. exports is unique among Federal agencies. In carrying out its mission, the Agency places particular emphasis on vital economic sectors including clean energy, transportation, digital, and healthcare infrastructure.

USTDA is seeking to integrate climate adaptation and resilience considerations into its programming across these priority sectors and to identify specific programming opportunities to support the export of U.S. technologies and services that strengthen developing and middle-income countries' ability to prepare for and respond to external shocks and stresses associated with climate change. The stakeholder input sought through this notice will inform USTDA's efforts to develop project preparation activities including feasibility studies, technical assistance, and pilot projects, as well as partnership-building activities including reverse trade missions, industry events, and expert workshops, to link U.S. companies to climate adaptation and resilience-related export opportunities while fostering climate adaptation and sustainable infrastructure development in developing and middle-income countries.

Scope

“Climate adaptation” is a broad term that can encompass a range of technologies, services and activities used to address a variety of issues relating to the effects and impacts of climate change. The UNFCCC defines climate adaptation as “human-driven adjustments in ecological, social, or economic systems or policy processes, in response to actual or expected climate stimuli and their effects or impacts.” Put simply, climate adaptation refers to strengthening the capacity of individuals, communities, assets and/or systems to withstand current or expected climate shocks or stressors.

“Climate resilience” can be defined as the ability to prepare for and recover from the impacts of climate change. For the purpose of this request for public comment, ITA and USTDA are focused on both established and emerging technologies, and goods and services, that can contribute to the adaptive capacity and resilience of foreign partners to manage shocks and stresses associated with climate change.

“Climate adaptation and resilience-related technologies and services” span a range of industries and sectors including the following, among others:

• Emergency response and preparedness, including early warning systems;

• Professional engineering and design services to improve infrastructure resilience;

• Hydro-meteorological systems and forecasting, mapping, data analysis, and other climate information services;

• Energy resilience (which may be provided or enhanced by minigrids, microgrids, electricity grid weatherization and monitoring, energy efficiency and demand-side management, energy storage, or fuel cells, among other technologies and services);

• Environmental technologies, such as water supply, wastewater treatment, solid waste management, and environmental remediation;

• Information and communications technology (ICT) for resilient and redundant communication systems, digital and ICT application solutions that support resilient climate-smart communities (for example, to design or implement urban adaptation initiatives, or improve data storage resilience), including cloud computing to make data available for use and real-time engagement by multiple simultaneous users;

• Water use efficiency, water storage and production solutions, and information technology applications for water and wastewater operators;

• Resilient transportation systems that are adapted to respond to direct and indirect consequences of climate change, such as extreme weather and associated population movements;

• Coastal and flood protection;

• Technologies and services that facilitate the adaptation of marine ecosystems to future climate conditions, including future ocean temperature and chemistry regimes, or that enable the sustainable use of ocean resources and the ocean economy under future climate conditions;

• Climate-smart food systems, including agriculture, aquaculture, and fisheries;

• Infrastructure and engineering services and sustainable building materials, including building assessment and weatherization, and nature-based or other innovative or traditional infrastructure solutions, designed to provide protection against anticipated climate impacts;

• Capital markets solutions including green bonds and technology for collecting and aggregating data (including ESG data) related to or of value for adaptation and climate resilience;

• Innovative insurance products that address climate adaptation and resilience concerns; and

• Sustainable lending and financing products that support financing climate adaptation and improved climate resilience.

For the purpose of this request for public comment, “competitiveness” entails the capacity to produce and deploy affordable, reliable, and accessible technologies and compete in global markets. USTDA and several of both agencies' interagency partners are particularly interested in climate adaptation and resilience-related technologies and services that could represent significant opportunities for U.S. companies exporting to emerging markets (i.e., developing and middle-income countries).

This request for public comments supports the work of the Trade Promotion Coordinating Committee (TPCC) to coordinate U.S. government export promotion activities, including activities in support of U.S. exports of climate and clean technologies and services. The TPCC is an interagency committee chaired by the Secretary of Commerce. It was established under the Export Enhancement Act of 1992 to provide a unifying framework to coordinate the export promotion and export financing activities of the U.S. government, and to develop a government-wide strategic plan for carrying out such programs.

Request for Written Comments

Instructions: This notice is intended to improve ITA's and USTDA's understanding of U.S. private sector interests, capabilities, and concerns with respect to exports of climate adaptation and resilience-related technologies and services. This notice is a general solicitation for public comments and further sets forth specific topics for discussion and comment for both agencies to improve their understanding of the current technological landscapes. ITA and USTDA seek broad input from all interested stakeholders, including U.S. industry, researchers, academia, and civil society. Commenters are encouraged to address any or all of the following questions and may respond in terms of climate adaptation and resilience broadly, or in terms of specific sub-sectors, technologies, and services. To the extent commenters choose to respond to the specific questions asked, responses may be formatted as the commenter prefers.

Comments will be reviewed by ITA and USTDA staff and contractors and may be used to inform agency priorities and programming. ITA and USTDA intend to share the information received through this request with partner Federal agencies, consistent with the Biden-Harris Administration's whole-of-government approach to implement PREPARE and Administration efforts to support U.S. exports. Accordingly, responses will be of potential interest to a broader set of U.S. government agencies working on climate adaptation, climate resilience, and export promotion.

Questions

Opportunities

1. What climate adaptation and resilience-related technologies and services offer the most significant immediate opportunities for U.S. exports to foreign countries or regions, including developing and middle-income countries?

2. What climate adaptation and resilience-related technologies and services do not currently offer significant immediate opportunities for U.S. exports to foreign countries or regions, including developing and middle-income countries, but may offer such opportunities within the next five to ten years?

3. Do the needs of climate adaptation and resilience-related services exporters (including software and digital service providers) differ from exporters of manufactured products? If so, how?

Challenges

4. What are the principal factors (i.e., economic, technical, regulatory, etc.), especially in developing and middle-income export markets, that could pose significant barriers to U.S. industry's competitiveness with respect to U.S. exports of climate adaptation and resilience-related technology and services? What changes are necessary for U.S. private sector to enter these markets? What factors inhibit expansion and growth in those markets? Please consider challenges pertaining to existing and emerging technologies and services, and to established and developing markets.

5. What are the principal factors (i.e., economic, technical, regulatory, etc.) that inhibit U.S. industry competitiveness in climate adaptation and resilience-related sectors or technologies in which the U.S. does not currently have a competitive domestic industry?

6. Which countries' companies are the main competitors for adaptation and resilience-related technologies and services? What is the nature of the government assistance they may receive? How might the U.S. government level the playing field for U.S. companies facing foreign competition?

U.S. Government Solutions

7. What are the most useful and effective existing tools or resources offered by the U.S. government to reduce or remove challenges, risks, and barriers to help position U.S. climate adaptation and resilience-related technologies for competitiveness in the global market?

8. How can existing tools or resources offered by the U.S. government be improved or coordinated to increase their effectiveness or make them more accessible to U.S. companies' climate adaptation and resilience-related technologies or services?

9. What are potentially useful new actions the U.S. government could take, or information or assistance the U.S. government could provide domestically, or through engagement with foreign countries and multilateral international organizations, to reduce or remove challenges, risks, and barriers or otherwise help position U.S. climate adaptation and resilience-related technologies and services for export to foreign countries or regions, including developing and middle-income countries?

10. Which foreign countries or regions, including developing and middle-income countries, present the greatest market opportunities for U.S. exports of climate adaptation and resilience-related technologies and services or should be prioritized for engagement by the U.S. government? (Note that USTDA's focus is on infrastructure development in developing and middle-income countries; other Federal departments and agencies including ITA may be able to engage in a wider array of countries, depending on their respective mandates and authorities.)

Scope

11. In addition to the illustrative list of climate adaptation and resilience-related technologies and services identified above, what other adaptation or resilience-related technologies or services with opportunities for U.S. exports of goods and services to foreign countries or regions, including low and middle-income countries exist, if any? What other technologies or services U.S. industry offers that increase resilience to climate-related shocks and stresses or support adaptation to future climate conditions are not typically considered part of “climate adaptation” but should be?

Other

12. What additional issues or challenges related to U.S. exports and competitiveness of climate adaptation and resilience-related technologies and services not addressed by these questions do you believe would be helpful for USTDA and other Federal agencies to understand? What would be the most critical actions the government could take to address these issues?

Dated: April 24, 2023.
Man K. Cho,
Deputy Director, Office of Energy & Environmental Industries, International Trade Administration, U.S. Department of Commerce.
Eric M. Haxthausen,
Senior Advisor for Climate, Partnerships, and Innovation, U.S. Trade and Development Agency.

[FR Doc. 2023-09051 Filed 5-1-23; 8:45 am]

BILLING CODE 3510-DR-P